DEPARTMENT OF HOMELAND SECURITY

Federal Emergency Management Agency

[Docket ID FEMA-2008-0010]

National Fire Academy Board of Visitors; Notice of Meeting

AGENCY: Federal Emergency Management Agency, DHS.

ACTION: Committee Management; Notice of Open Federal Advisory Committee Meeting.

SUMMARY: The National Fire Academy Board of Visitors will meet on February 22, 2011.

DATES: The teleconference will take place Tuesday, February 22, 2011, from 1 p.m. to 3 p.m., EST. Comments must be submitted by Tuesday, February 15, 2011. Members of the public may also participate, in person, by coming to the National Emergency Training Center, Building H, Room 300. Emmitsburg, Maryland.

ADDRESSES: Members of the public who wish to obtain the call-in number, access code, and other information for participation in the public meeting should contact Roxane Strayer as listed under the FOR FURTHER INFORMATION CONTACT caption by February 18, 2011, as the number of teleconference lines is limited and available on a first-come, first served basis. Written material as well as requests to have written material distributed to each member of the committee prior to the meeting should reach Roxane Strayer as listed under the FOR FURTHER INFORMATION CONTACT caption by February 18, 2011. Comments must be identified by docket ID FEMA-2008-0010 and may be submitted by one of the following methods:

• Federal eRulemaking Portal: http://www.regulations.gov. Follow the instructions for submitting comments.

• E-mail: FEMA-RULES@dhs.gov. Include the docket ID in the subject line of the message.

• Fax: 703-483-2999.

• Mail: Roxane Strayer, 16825 South Seton Avenue, Emmitsburg, Maryland 21727.

Instructions: All submissions received must include the docket ID for this action. Comments received will be posted without alteration at http://www.regulations.gov, including any personal information provided.

Docket: For access to the docket to read background documents or comments received by the National Fire Academy Board of Visitors, go to http://www.regulations.gov.

FOR FURTHER INFORMATION CONTACT: Roxane Strayer, 16825 South Seton Avenue, Emmitsburg, Maryland 21727, telephone (301) 447-1642, fax (301) 447-1173, and e-mail roxane.strayer@dhs.gov.

SUPPLEMENTARY INFORMATION: Notice of this meeting is given under the Federal Advisory Committee Act, 5 U.S.C. App. (Pub. L. 92-463). The National Fire Academy Board of Visitors will hold a meeting for purposes of electing a Chair and Vice Chair for the upcoming year, discussion regarding status of Subcommittees, new course developments in the following curriculum areas: Emergency Medical Services; Fire Prevention: Management; Fire Prevention: Technical; Hazardous Materials; and Fire Fighter Health and Safety, course revisions in the following curriculum areas: Executive Fire Officer Program; Management Science; Fire, Arson and Explosives Investigation; Fire Prevention: Management; Fire Prevention: Technical; Fire Prevention: Public Education; and Emergency Medical Services, new hiring introductions, DHS/Non-DHS Committee Reports affecting curriculum to include Underwriters Laboratories Fire Council and DHS Interagency Board, the status of deferred maintenance and capital improvements on the NETC campus, to include FY 2011 Budget Request/FY 2012 Budget Planning, as well as a public comment period. This meeting is open to the public.

The Chairperson of the National Fire Academy Board of Visitors shall conduct the meeting in a way that will, in their judgment, facilitate the orderly conduct of business. The committee welcomes public comments prior to the teleconference. Please note that the meeting may end early if all business is completed.

Information on Services for Individuals with Disabilities

For information on facilities or services for individuals with disabilities or to request special assistance at the meeting, contact Roxane Strayer as soon as possible.

Dated: January 28, 2011.
Glenn A. Gaines,
Acting United States Fire Administrator, United States Fire Administration, Federal Emergency Management Agency.

[FR Doc. 2011-2323 Filed 2-2-11; 8:45 am]

BILLING CODE 9111-45-P